DEPARTMENT OF HEALTH AND HUMAN SERVICES

Food and Drug Administration

[Docket No. FDA-2011-N-0012]

Strengthen and Promote the Role of Local Health Departments in Retail Food Safety Regulation (U-50)

AGENCY: Food and Drug Administration, HHS.

ACTION: Notice.

SUMMARY: The Food and Drug Administration (FDA) is announcing the availability of grant funds for the support of a cooperative agreement between the Center for Food Safety and Applied Nutrition (CFSAN) and the National Association of County and City Health Officials (NACCHO). The goal of the cooperative agreement for CFSAN is to have NACCHO conduct work that will strengthen the role of local health departments and help FDA/CFSAN promote effective city and county regulatory programs responsible for retail food protection in the United States.

DATES: 1. The application due date is June 15, 2011.

2. The anticipated start date is August 2011.

3. The opening date is June 8, 2011.

4. The expiration date is June 16, 2011.

For Further Information and Additional Requirements Contact:

Scientific/Programmatic Contact: Peter A. Salsbury, Center for Food Safety and Applied Nutrition (HFS-320), Food and Drug Administration, 5100 Paint Branch Parkway, College Park, MD 20740, 301-436-1655.

Grants Management Contact: Gladys Melendez-Bohler, Office of Acquisition and Grant Services (OAGS) (HFA-500), Food and Drug Administration, 5630 Fishers Lane, rm. 1078, Rockville, MD 20857, 301-827-7175. gladys.bohler@fda.hhs.gov.

For more information on this funding opportunity announcement (FOA) and to obtain detailed requirements, please refer to the full FOA located at http://www.fda.gov/Food/NewsEvents/default.htm.

SUPPLEMENTARY INFORMATION:

I. Funding Opportunity Description

Funding Opportunity Number: RFA-FY-FD-020.

Catalog of Federal Domestic Assistance Number: 93.103.

A. Background

The FDA is responsible for protecting and promoting public heath. The public health focus of the FDA Foods Program integrates a comprehensive, preventative, and risk-based approach to safeguard the American food supply. The goal is to identify potential threats to the food supply and to counteract them before they harm American consumers. CFSAN administers the FDA Foods Program with the assistance of the Office of Regulatory Affairs' (ORA) field offices nationwide.

CFSAN regulates $417 billion worth of domestic food, $49 billion worth of imported foods, and over $60 billion worth of cosmetics sold across state lines. This regulation takes place from the products' point of the United States (U.S.) entry or processing to their point of sale. There are over 377,000 registered food facilities (including approximately 154,000 domestic facilities and 223,000 foreign facilities) that manufacture, process, pack, or hold food consumed by humans or animals in the United States and several thousand cosmetic firms. These figures do not include restaurants, institutional food service establishments, or supermarkets, grocery stores, and other food outlets regulated by almost 3,000 States, and local and tribal agencies that have primary responsibility to regulate the retail food and food service industries in the United States. These state and local agencies are responsible for the inspection and oversight of over 1 million food establishments, restaurants and grocery stores, as well as vending machines, cafeterias, and other outlets in health-care facilities, schools, and correctional facilities. FDA strives to promote the application of science-based food safety principles in retail and food service settings to minimize the incidence of foodborne illness. FDA assists regulatory agencies and the industries they regulate by providing a model Food Code, scientifically-based guidance, training, program evaluation, and technical assistance.

B. Research/Cooperative Investigations and Assessments Objectives

CFSAN's Office of Food Safety (OFS)/Retail Food and Cooperative Programs Coordination Staff (RFCPCS) as part of FDA's National Retail Food Team, works to promote the sharing of best practices, including those regulatory and industry interventions that are targeted at improving the management of food safety practices in the retail setting. CFSAN/OFS desires to work cooperatively with NACCHO to increase partnerships and collaboration with our regulatory partners at local and state health and agriculture departments that represent city and county health departments, to identify best practices and innovative approaches used to implement the FDA Food Code and Voluntary National Retail Food Regulatory Program Standards (Retail Program Standards) and begin to examine the impact they have on the reduction of foodborne illness risk factors. NACCHO has the expertise needed to provide expert advice and recommendations to FDA that can be shared and used by multiple local and state health and agriculture departments to help improve public heath in retail and food service settings.

The Cooperative Agreement with NACCHO will also help FDA examine how the Retail Program Standards can most effectively be integrated with broadening efforts to establish accreditation for health departments as guided by the Public Health Accreditation Board.

Other possible areas for collaboration with NACCHO include working to identify how to improve prevention, performance, and response at the local government level; establishing peer mentoring opportunities that pair up experienced local health department officials who have experience implementing the Retail Program Standards with those who have struggled or are just beginning the process; and doing a comprehensive study to assess the effectiveness of food inspection grading and scoring systems used by local health departments.

C. Eligibility Information

NACCHO is the only national organization representing local health departments, to include county, city, district, metro, and tribal agencies. Membership in NACCHO is limited to the executive officer of the department of health of any local health department. NACCHO supports efforts that protect and improve the health of all people and all communities by promoting national policy, developing resources and programs, seeking health equity, and supporting effective local public health practice and systems.

In performing an internet search for national organizations whose members are local governmental health officials, and whose mission includes efforts to support and work with local health departments to improve food safety and prevent foodborne illness, no other organizations were discovered. There are organizations that represent local boards of health, but no other organization whose membership is comprised of local governmental health officials. NACCHO has been in existence since 1994 and has always been exclusively associated with local health officials.

NACCHO values guide staff and leadership in work to achieve optimal health for all through an effective local governmental presence for public health. NACCHO believes that by incorporating these values with a focus on and commitment to their mission and vision, NACCHO will effectively influence improvements in health status around the country. Another unique aspect of NACCHO is its membership. As governmental health officials, NACCHO is able to join forces with other governmental health officials to improve the effectiveness of public health at the local and state level.

II. Award Information/Funds Available

A. Award Amount

The estimated amount of this cooperative agreement award with NACCHO in fiscal year 2011 will be for up to $400,000 (direct plus indirect costs).

B. Length of Support

This Cooperative Agreement established with NACCHO has the possibility of 4 additional years of support for up to $400,000 per year, subject to the availability of funds. Future year amounts will depend on annual appropriations and successful performance.

III. Paper Application, Registration, and Submission Information

To submit a paper application in response to this FOA, applicants should first review the full announcement located at http://www.fda.gov/Food/NewsEvents/default.htm. (FDA has verified the Web site addresses throughout this document, but FDA is not responsible for any subsequent changes to the Web sites after this document publishes in the Federal Register.) Persons interested in applying for a grant may obtain an application at http://grants.nih.gov/grants/forms.htm, for all paper application submissions, the following steps are required:

• Step 1: Obtain a Dun and Bradstreet (DUNS) Number.

• Step 2: Register With Central Contractor Registration.

• Step 3: Register With Electronic Research Administration (eRA) Commons.

Steps 1 and 2, in detail, can be found at http://www07.grants.gov/applicants/organization_registration.jsp. Step 3, in detail, can be found at https://commons.era.nih.gov/commons/registration/registrationInstructions.jsp.

After you have followed these steps, submit paper applications to the following. Please note that the application should not be submitted through Grants.gov or eRA Commons: Gladys Melendez-Bohler, Office of Acquisition and Grant Services (OAGS) (HFA-500), Food and Drug Administration, 5630 Fishers Lane, rm. 1078, Rockville, MD 20857, 301-827-7175, gladys.bohler@fda.hhs.gov.

Dated: June 2, 2011.
Leslie Kux,
Acting Assistant Commissioner for Policy.

[FR Doc. 2011-14059 Filed 6-7-11; 8:45 am]

BILLING CODE 4160-01-P